DEPARTMENT OF JUSTICE

National Institute of Corrections

Advisory Board Meeting

DATES: Time and Date: 8 a.m. to 4:30 p.m. on Wednesday, November 2, 2011, 8 a.m. to 4:30 p.m. on Thursday, November 28, 2011.

PLACE: National Corrections Academy, 11900 East Cornell Avenue, Aurora, CO 80014, 1 (303) 338-6600.

MATTERS TO BE CONSIDERED: Important trends in corrections-related policy, program, and practices; identifying and meeting the needs of the field of corrections; Performance Based Outcomes; Director's report; Federal Partners Reports; Presentations.

CONTACT PERSON FOR MORE INFORMATION: Thomas Beauclair, Deputy Director, 202-307-3106, ext. 44254.

Morris L. Thigpen,
Director.

[FR Doc. 2011-25880 Filed 10-7-11; 8:45 am]

BILLING CODE 4410-36-M